DEPARTMENT OF ENERGY

Federal Energy Regulatory Commission

[Docket No. CP99-600-000]

National Fuel Gas Distribution Corporation; Notice of Pre-Filing Conference

February 8, 2001.

Take notice that a pre-filing conference will be held on Thursday, February 15, 2001, at 2:00 p.m., at the offices of the Federal Energy Regulatory Commission, 888 First Street, NE., Washington, DC 20426. The purpose of the pre-filing conference is to discuss Norse Pipeline, L.L.C.'s and Nornew Energy, Inc.'s compliance with the Commission's December 14, 2000, Order Addressing Petition for Declaratory Order and Directing Compliance Filing (93 FERC ¶ 61,276 (2000)).

All interested parties and Staff are permitted to attend. For additional information, please contact Robert Christin (202) 208-1022.

Linwood A. Watson, Jr.,
Acting Secretary.

[FR Doc. 01-3686 Filed 2-13-01; 8:45 am]

BILLING CODE 6717-01-M